DEPARTMENT OF HEALTH AND HUMAN SERVICES

Notice of Meeting of the Advisory Committee on Minority Health

AGENCY: Office of the Secretary, Office of Public Health and Science, Office of Minority Health.

ACTION: Notice is given of the June meeting.

The Advisory Committee on Minority Health will meet on Thursday, June 26, 2003, from 9 a.m. to 5 p.m., and Friday, June 27, 2003, from 8:30 a.m. to 12 noon. The meeting will be held at the Hilton Garden Inn (Franklin Square), Georgetown ABC Rooms, 815 14th Street, NW., Washington, DC 20005. The meeting is metro accessible to the McPherson Square station.

The Advisory Committee will discuss racial and ethnic disparities in health, as well as, other related issues.

The meeting is open to the public. There will be an opportunity for public comment, which will be limited to five minutes per speaker. Individuals who would like to submit written statements should mail or fax their comments to the Office of Minority Health at least two business days prior to the meeting.

FOR FURTHER INFORMATION CONTACT: Ms. Sheila P. Merriweather, Tower Building, 1101 Wootton Parkway, Suite 600, Rockville, Maryland 20852. Phone: 301-443-9923 Fax: 301-443-8280.

Dated: June 4, 2003.
CAPT Tuei Doong,
Deputy Director, Office of Minority Health.

[FR Doc. 03-14626 Filed 6-10-03; 8:45 am]

BILLING CODE 4150-29-M